DEPARTMENT OF ENERGY

Federal Energy Regulatory Commission

[Docket No. RP96-383-046]

Dominion Transmission, Inc.; Notice of Negotiated Rates

February 4, 2003.

Take notice that on January 29, 2003, DTI tendered for filing the following tariff sheet for disclosure of a recently negotiated transaction with Sithe Energy Marketing, LP:

Fourth Revised Sheet No. 1400

DTI states that the tariff sheet relates to a specific negotiated rate transaction between DTI and Sithe Energy Marketing, LP. The transaction provides Sithe Energy Marketing, LP with firm transportation service and conforms to the forms of service agreement contained in DTI's tariff. The term of the agreement is February 1, 2003, through January 31, 2004.

DTI states that copies of its letter of transmittal and enclosures have been served upon DTI's customers and interested state commissions.

Any person desiring to be heard or to protest said filing should file a motion to intervene or a protest with the Federal Energy Regulatory Commission, 888 First Street, NE., Washington, DC 20426, in accordance with Sections 385.314 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: February 10, 2003.

Magalie R. Salas,
Secretary.

[FR Doc. 03-3157 Filed 2-7-03; 8:45 am]

BILLING CODE 6717-01-P